DEPARTMENT OF COMMERCE

Foreign-Trade Zones Board

[B-36-2015]

Foreign-Trade Zone 122—Corpus Christi, Texas, Authorization of Production Activity, voestalpine Texas, LLC, Subzone 122T, (Hot Briquetted Iron), Portland, Texas

On May 22, 2015, the Port of Corpus Christi Authority, grantee of FTZ 122, submitted a notification of proposed production activity to the Foreign-Trade Zones (FTZ) Board on behalf of voestalpine Texas, LLC, within Subzone 122T, in Portland, Texas.

The notification was processed in accordance with the regulations of the FTZ Board (15 CFR part 400), including notice in the Federal Register inviting public comment (80 FR 32085, 06/05/2015). The FTZ Board has determined that no further review of the activity is warranted at this time. The production activity described in the notification is authorized, subject to the FTZ Act and the Board's regulations, including Section 400.14.

Andrew McGilvray,
Executive Secretary.

[FR Doc. 2015-24447 Filed 9-24-15; 8:45 am]

BILLING CODE 3510-DS-P